DEPARTMENT OF THE TREASURY

Office of Thrift Supervision

[AC-06: OTS Nos. H-3774 and 06459]

PFS Bancorp, Inc., Aurora, Indiana; Approval of Conversion Application

Notice is hereby given that on August 9, 2001, the Managing Director, Office of Thrift Supervision, or his designee, acting pursuant to delegated authority, approved the application of People's Federal Saving Bank, Aurora, Indiana, to convert to the stock form of organization. Copies of the application are available for inspection at the Dissemination Branch, Office of Thrift Supervision, 1700 G Street, NW, Washington, DC 20552, and the Central Regional Office, Office of Thrift Supervision, 1 South Wacker Drive, Suite 2000, Chicago, Illinois 60606.

Dated: August 14, 2001.
By the Office of Thrift Supervision.
Nadine Y. Washington,
Corporate Secretary.

[FR Doc. 01-20866 Filed 8-17-01; 8:45 am]

BILLING CODE 6720-01-M